NUCLEAR REGULATORY COMMISSION

[NRC-2016-0001]

Sunshine Act Meeting

DATE: July 25, August 1, 8, 15, 22, 29, 2016.

PLACE: Commissioners' Conference Room, 11555 Rockville Pike, Rockville, Maryland.

STATUS: Public and Closed.

Week of July 25, 2016

Tuesday, July 26, 2016

9:00 a.m. Meeting with NRC Stakeholders (Public Meeting) (Contact: Denise McGovern: 301-415-0681)

This meeting will be webcast live at the Web address— http://www.nrc.gov/.

Thursday, July 28, 2016

9:00 a.m. Hearing on Combined Licenses for Levy Nuclear Plant, Units 1 and 2: Section 189a. of the Atomic Energy Act Proceeding (Public Meeting) (Contact: Donald Habib: 301-415-1035)

This meeting will be webcast live at the Web address— http://www.nrc.gov/.

Week of August 1, 2016—Tentative

There are no meetings scheduled for the week of August 1, 2016.

Week of August 8, 2016—Tentative

There are no meetings scheduled for the week of August 8, 2016.

Week of August 15, 2016—Tentative

There are no meetings scheduled for the week of August 15, 2016.

Week of August 22, 2016—Tentative

There are no meetings scheduled for the week of August 22, 2016.

Week of August 29, 2016—Tentative

There are no meetings scheduled for the week of August 29, 2016.

* * * * *

The schedule for Commission meetings is subject to change on short notice. For more information or to verify the status of meetings, contact Denise McGovern at 301-415-0681 or via email at Denise.McGovern@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0739, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: July 20, 2016.
Denise L. McGovern,
Policy Coordinator, Office of the Secretary.

[FR Doc. 2016-17619 Filed 7-21-16; 4:15 pm]

BILLING CODE 7590-01-P\